DEPARTMENT OF DEFENSE

Department of the Air Force

[Docket ID: USAF-2008-0008]

Privacy Act of 1974; System of Records

AGENCY: Department of the Air Force, DoD.

ACTION: Notice To Alter a System of Records.

SUMMARY: The Department of the Air Force proposes to alter a system of records notice in its inventory of record systems subject to the Privacy Act of 1974 (5 U.S.C. 552a), as amended.

DATES: The proposed action will be effective on May 30, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Ms. Novella Hill at (703) 696-6518.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on April 10, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: April 23, 2008.
Patricia Toppings,
OSD Federal Register Liaison Officer, Department of Defense.

F051 AF JA A

System Name:

Judge Advocate General's Professional Conduct Files (June 11, 1997, 62 FR 31793).

Changes:

* * * * *

System Location:

Delete paragraph 1 and replace with “Office of the Professional Responsibility Administrator, Office of the Air Force Judge Advocate General, 1420 Air Force Pentagon, Washington, DC 20330-1420.”

Add to entry “National Guard Bureau, Judge Advocate's Office (NGB/JA), 1411 Jefferson Davis Highway, Arlington, VA 22202.”

Categories of Individuals Covered by the System:

Delete entry and replace with “Judge advocates (active duty, reserve, or guard), civilian attorneys employed by The Judge Advocate General's Corps and civilian attorneys subject to the disciplinary authority of The Judge Advocate General who have been the subject of a complaint related to their professional conduct.”

Categories of records in the system:

Delete entry and replace with “Records include, but are not limited to name, address, social security number (SSN); complaints with substantiating documents; letters/transcriptions of complaints, allegations and queries; letters of appointment; reports of reviews, inquiries, and investigations with supporting attachments, exhibits and photographs; records of interviews; witness statements; recommendations; reports of legal reviews of case files; reports of Advisory Committee reviews; congressional responses; memoranda; letters and reports of findings and actions taken; letters to complainants and subjects of investigations; letters of rebuttal from subjects; financial, personnel, administrative, adverse information, and technical reports.”

* * * * *

Purposes:

Delete paragraph 3 and replace with “To ensure licensing agencies of the individual states (including the District of Columbia, Puerto Rico, Guam, American Samoa, the U.S. Virgin Islands and the Commonwealth of the Northern Mariana Islands), and the various courts that licensed Air Force attorneys are advised of adverse determinations documenting violations of the rules of professional responsibility affecting an attorney's fitness to practice law, this in an effort to protect the Air Force and the general public from substandard legal practitioners.”

Delete paragraph 4 and replace with “To record the disposition of professional responsibility complaints and to document professional responsibility violations and corrective action taken.”

* * * * *

System Manager(s) and Address:

Delete entry and replace with “Office of The Judge Advocate General, Professional Responsibility Administrator, 1420 Air Force Pentagon, Washington, DC 20330-1420.”

Notification Procedure:

Delete entry and replace with “Individuals seeking to determine whether this system of records contains information about themselves should address written inquiries to the Office of The Judge Advocate General, Professional Responsibility Administrator, 1420 Air Force Pentagon, Washington, DC 20330-1420.

Written inquiries should include full name, mailing address, and Social Security Number (SSN).”

Record Access Procedures:

Delete entry and replace with “Individuals seeking access to records about themselves contained in this system should address written requests to the Office of The Judge Advocate General, Professional Responsibility Administrator, 1420 Air Force Pentagon, Washington, DC 20330-1420.

Written inquiries should include full name, mailing address, and Social Security Number (SSN).”

* * * * *

Exemptions Claimed for the System:

Delete paragraph, Replace with “Exemption (k)(2), 5 U.S.C. 552a. Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information except to the extent that disclosure would reveal the identity of a confidential source.”

* * * * *

F051 AF JA A

System Name:

Judge Advocate General's Professional Conduct Files

System Location:

Office of the Professional Responsibility Administrator, Office of the Air Force Judge Advocate General, 1420 Air Force Pentagon, Washington, DC 20330-1420;

Army-Air Force Exchange Service Headquarters, General Counsel, P.O. Box 660202, Dallas, TX 75266-0202;

Defense Commissary Agency Headquarters, General Counsel, Building P11200, Fort Lee, VA 23801; and

Defense Logistics Agency, Judge Advocate, Alexandria, VA 22310-6130.

The Judge Advocate's office at headquarters of major commands, field operating offices, and unified commands. Official mailing addresses are published as an appendix to the Air Force's compilation of systems of records notices.

National Guard Bureau, Judge Advocate's Office (NGB/JA), 1411 Jefferson Davis Highway, Arlington, VA 22202.

Categories of Individuals Covered by the System:

Judge advocates (active duty, reserve, or guard), civilian attorneys employed by The Judge Advocate General's Corps and civilian attorneys subject to the disciplinary authority of The Judge Advocate General who have been the subject of a complaint related to their professional conduct.

Categories of records in the system:

Records include, but are not limited to name, address, social security number (SSN); complaints with substantiating documents; letters/transcriptions of complaints, allegations and queries; letters of appointment; reports of reviews, inquiries, and investigations with supporting attachments, exhibits and photographs; records of interviews; witness statements; recommendations; reports of legal reviews of case files; reports of Advisory Committee reviews; congressional responses; memoranda; letters and reports of findings and actions taken; letters to complainants and subjects of investigations; letters of rebuttal from subjects; financial, personnel, administrative, adverse information, and technical reports.

Authority for Maintenance of the System:

10 U.S.C. 8037, Judge Advocate General, Deputy Judge Advocate General: Appointment and duties; RCM 109, Manual for Courts-Martial, 1984 and Executive Order 9397 (SSN).

Purpose(s):

To assist The Judge Advocate General in the evaluation, management, administration and regulation of the delivery of legal services by offices and personnel under his jurisdiction.

To ensure the proper qualifications for the practice of law are met and maintained by each attorney practicing under the direct or indirect supervision of The Judge Advocate General.

To ensure licensing agencies of the individual states (including the District of Columbia, Puerto Rico, Guam, American Samoa, the U.S. Virgin Islands and the Commonwealth of the Northern Mariana Islands), and the various courts that licensed Air Force attorneys are advised of adverse determinations documenting violations of the rules of professional responsibility affecting an attorney's fitness to practice law, this in an effort to protect the Air Force and the general public from substandard legal practitioners.

To record the disposition of professional responsibility complaints and to document professional responsibility violations and corrective action taken.

Routine Uses of Records Maintained in the System, Including Categories of Users and the Purposes of Such Uses:

In addition to those disclosures generally permitted under 5 U.S.C. 552a(b) of the Privacy Act, these records, or information contained therein, may specifically be disclosed outside the DoD as a routine use pursuant to 5 U.S.C. 552a(b)(3) as follows:

To federal and state agencies or bar associations charged with licensing and authorizing attorneys to practice law, and to various courts authorizing attorneys to practice before said courts, in order to protect the public and ensure the proper administration of justice.

To current and potential governmental employers during authorized background checks to assist their efforts to protect the public and ensure the proper administration of justice.

The ‘Blanket Routine Uses’ published at the beginning of the Air Force's compilation of systems of records notices apply to this system.

Policies and Practices for Storing, Retrieving, Accessing, Retaining, and Disposing of Records in the System:

Storage:

Maintained in file folders, in computer, and on computer output products.

Retrievability:

Retrieved by name of individual.

Safeguards:

Records are accessed by person(s) responsible for servicing the record system in performance of their official duties and by authorized personnel who are properly screened and cleared for need-to-know. Records are stored in locked rooms and cabinets. Those in computer storage devices are protected by computer system software. Computers must be accessed with a password.

Retention and Disposal:

Retained in office files for three (3) years after year in which case is closed. Records are destroyed by tearing into pieces, shredding, pulping, macerating or burning. Computer records are destroyed by erasing, deleting or overwriting.

System Manager(s) and Address:

Office of The Judge Advocate General, Professional Responsibility Administrator, 1420 Air Force Pentagon, Washington, DC 20330-1420.

Notification Procedure:

Individuals seeking to determine whether this system of records contains information about themselves should address written inquiries to the Office of The Judge Advocate General, Professional Responsibility Administrator, 1420 Air Force Pentagon, Washington, DC 20330-1420.

Written inquiries should include full name, mailing address, and Social Security Number (SSN).

Record Access Procedures:

Individuals seeking access to records about themselves contained in this system should address written requests to the Office of The Judge Advocate General, Professional Responsibility Administrator, 1420 Air Force Pentagon, Washington, DC 20330-1420.

Written inquiries should include full name, mailing address, and Social Security Number (SSN).

Contesting Record Procedures:

The Air Force rules for accessing records, and for contesting contents and appealing initial agency determinations are published in Air Force Instruction 37-132; 32 CFR part 806b; or may be obtained from the system manager.

Record Source Categories:

Information is received from individuals; federal, state and local authorities; other Air Force records; state bar records; law enforcement records; educational records; complainants; inspectors; witnesses and subjects of inquiries.

Exemptions Claimed for the System:

Exemption (k)(2), 5 U.S.C. 552a. Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information except to the extent that disclosure would reveal the identity of a confidential source.

[FR Doc. E8-9387 Filed 4-29-08; 8:45 am]

BILLING CODE 5001-06-P